DEPARTMENT OF HEALTH AND HUMAN SERVICES

Centers for Medicare & Medicaid Services

[CMS-1488-CN3]

RIN 0938-A012

Medicare Program; Changes to the Hospital Inpatient Prospective Payment Systems and Fiscal Year 2007 Rates; Final Fiscal Year 2007 Wage Indices and Payment Rates After Application of Revised Occupational Mix Adjustment to the Wage Index; Corrections

AGENCY: Centers for Medicare & Medicaid Services (CMS), HHS.

ACTION: Correction of notice.

SUMMARY: This document corrects wage index values and a relative weighting factor error that appeared in the correction notice published in the Federal Register on January 5, 2007 entitled “Medicare Program; Changes to the Hospital Inpatient Prospective Payment Systems and Fiscal Year 2007 Rates; Final Fiscal Year 2007 Wage Indices and Payment Rates After Application of Revised Occupational Mix Adjustment to Wage Index; Corrections”.

DATES: Effective Dates. The corrections to the wage index values listed in items 1a, 1b, and 2 of section III. of this notice are effective as of November 3, 2006. The corrections to the wage index values listed in item 1c of section III. of this notice are effective November 21, 2006. The correction to the relative weighting factor listed in item 3 of section III. of this notice is effective October 1, 2006.

FOR FURTHER INFORMATION CONTACT: Brian Slater, (410) 786-5229.

SUPPLEMENTARY INFORMATION:

I. Background

In the October 11, 2006 Federal Register (71 FR 59886), we published a notice entitled “Hospital Inpatient Prospective Payment Systems and Fiscal Year 2007 Rates; Final Fiscal Year 2007 Wage Indices and Payment Rates After Application of Revised Occupational Mix Adjustment to Wage Index” (hereinafter referred to as the “FY 2007 IPPS notice”). After publication of the October 11, 2006 notice, we became aware of errors in the wage indices. Section 412.64(k)(1) of the regulations requires that wage index corrections made after October 1 are effective prospectively for the remainder of the fiscal year from the date the fiscal intermediaries are informed of the correction. We recalculated the wage indices for the affected hospitals, and on November 3, 2006, sent a Joint Signature Memorandum to the fiscal intermediaries informing them to pay hospitals using the corrected wage indices. Subsequent to the November 3, 2006 Joint Signature Memorandum, additional errors in the wage indices were brought to our attention and were corrected through a November 21, 2006 Joint Signature Memorandum. In the January 5, 2007 Federal Register (FR Doc. 06-9976, 72 FR 569), we then published a correction notice entitled “Changes to the Hospital Inpatient Prospective Payment Systems and Fiscal Year 2007 Rates; Final Fiscal Year 2007 Wage Indices and Payment Rates After Application of Revised Occupational Mix Adjustment to Wage Index; Corrections” (hereinafter referred to as the “FY 2007 IPPS correction notice”) in order to reflect the recalculations included in the two Joint Signature Memoranda. Since the publication of the January 5, 2007 correction notice, we have become aware of several technical errors included in the January 5, 2007 correction notice. The Joint Signature Memoranda used to inform fiscal intermediaries of hospital payment rates did not contain such errors, in part because those Memoranda use a slightly different format for presenting wage index data. Thus, the corrections in this notice do not alter the rates already being used by fiscal intermediaries to pay hospitals. Rather, the corrections ensure that the Federal Register accurately reflects the rates actually in place.

In sections II. and III. of this correction notice, we summarize, identify, and correct the errors in the January 5, 2007 correction notice. We note that the corrections to items 1a, 1b and 2 of section III. of this notice are effective November 3, 2006; the correction to item 1c of section III of this notice is effective November 21, 2006, and the correction to item 3 of section III of this notice is effective October 1, 2006.

II. Summary of the Corrections to the FY 2007 IPPS Correction Notice

We made corrections to several of the wage index values that were published in Table 2 in order to ensure that the published tables accurately reflect the rates actually being used by fiscal intermediaries. We also added a sentence to the note that appears at the end of Table 2. In addition, we are making a technical correction in Table 5 to the relative weighting factor listed for DRG 525.

III. Correction of Errors

In FR Doc. 06-9976 of January 5, 2007 (72 FR 569), make the following corrections:

1. On pages 570 through 571, in Table 2.—Hospital Case-Mix Indexes for Discharges Occurring in Federal Fiscal Year 2005; Hospital Wage Indexes for Federal Fiscal Year 2007; Hospital Average Hourly Wages for Federal Fiscal Years 2005 (2001 Wage Data), 2006 (2002 Wage Data), and 2007 (2003 Wage Data); Wage Indexes and 3-Year Average of Hospital Average Hourly Wages, is corrected by—

a. Correcting the following entries effective November 3, 2006:

Provider No. | FY 2007 wage index
070003 | 1.2452
070038 | 1.2591
260015 | 0.8353
260047 | 0.8341
340073 | 0.9775
390044 | 1.0996
390096 | 1.0996

b. Deleting the following entries effective November 3, 2006:

Provider No. | FY 2007 wage index
530008 | 0.9057
530009 | 0.9057
530010 | 0.9057
530011 | 0.9057
530014 | 0.9057
530017 | 0.9057
530032 | 0.9057

c. Correcting the following entries effective November 21, 2006:

Provider No. | FY 2007 wage index
230013 | 1.0492
230019 | 1.0492
230029 | 1.0492
230071 | 1.0492
230130 | 1.0492
230151 | 1.0492
230207 | 1.0492
230223 | 1.0492
230254 | 1.0492
230269 | 1.0492
230277 | 1.0492

2. On page 571, third column, second full paragraph, that ends with the parenthetical phrase “(April 1-September 30, 2007),” the paragraph is corrected by adding a sentence to read as follows:

The separate wage index values for the first and second halves of FY 2007 can be viewed in Supplemental Table 2 on the CMS Web site at: http://www.cms.hhs.gov/AcuteInpatientPPS/WIFN/list.asp#TopOfPage.

3. On page 573 in Table 5.—List of Diagnosis-Related Groups (DRGs), Relative Weighting Factors, and Geometric and Arithmetic Mean Length of Stay (LOS), first line (DRG 525), seventh column (weights), the figure “2.2268” is corrected to read “12.2268”.

IV. Discussion of Effective Date and Notice and Comment Rulemaking

We ordinarily publish a notice of proposed rulemaking in the Federal Register to provide a period for public comment before the provisions of a rule take effect in accordance with section 553(b) of the Administrative Procedure Act (APA) (5 U.S.C. 553(b). In addition, a final rule would ordinarily require a 30-day delay in effective date after the date of publication in the Federal Register. This correction of the rates published in the FY 2007 IPPS notice and subsequent FY 2007 IPPS correction notice does constitute a rule under the Administrative Procedure Act, because in our FY 2007 IPPS final rule (71 FR 47870, August 18, 2006), we already published the methodologies and formulas we use for determining the wage index, geographic adjustment factors, and other rates. This notice does not change our methodology or formulas, but merely ensures that our notice accurately reflects the rates that are already being used to pay hospitals. As this notice is not a rule under the Administrative Procedure Act, no notice of proposed rulemaking or delay in effective date is necessary.

(Catalog of Federal Domestic Assistance Program No. 93.773, Medicare—Hospital Insurance; and Program No. 93.774, Medicare—Supplementary Medical Insurance Program)

Dated: March 16, 2007.
Ann C. Agnew,
Executive Secretary to the Department.

[FR Doc. E7-5290 Filed 3-22-07; 8:45 am]

BILLING CODE 4120-01-P